OFFICE OF THE UNITED STATES TRADE REPRESENTATIVE

Fiscal Year 2011 Tariff-rate Quota Allocations for Raw Cane Sugar, Refined and Specialty Sugar, and Sugar-containing Products; Revision

AGENCY: Office of the United States Trade Representative.

ACTION: Notice; revision.

SUMMARY: The Office of the United States Trade Representative (USTR) published a notice in the Federal Register of August 17, 2010 concerning Fiscal Year 2011 tariff-rate quota allocations of raw cane sugar, refined and special sugar, and sugar-containing products. USTR is revising the effective date of that notice to September 1, 2010 from October 1, 2010.

DATES: Effective Date: September 1, 2010.

ADDRESSES: Inquiries may be mailed or delivered to Leslie O'Connor, Director of Agricultural Affairs, Office of Agricultural Affairs, Office of the United States Trade Representative, 600 17th Street, NW., Washington, DC 20508.

FOR FURTHER INFORMATION CONTACT: Leslie O'Connor, Office of Agricultural Affairs, telephone: 202-395-6127 or facsimile: 202-395-4579.

SUPPLEMENTARY INFORMATION: On August 19, 2010, the Secretary of Agriculture announced that sugar entering the United States under the Fiscal Year 2011 raw sugar tariff-rate quota will be permitted to enter the U.S. Customs Territory beginning September 1, 2010, a month earlier than the beginning of Fiscal Year 2011 on October 1, 2010. Accordingly, USTR is revising the effective date of its notice of allocation to accommodate the Secretary's announcement. All other information contained in the August 17, 2010 USTR notice remains unchanged and will not be repeated in this notice.

Ronald Kirk,
United States Trade Representative.

[FR Doc. 2010-21524 Filed 8-27-10; 8:45 am]

BILLING CODE 3190-W0-P